DEPARTMENT OF TRANSPORTATION

Federal Highway Administration

[Docket No. FHWA-2008-0006]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on September 27, 2007. We are required to publish this notice in the Federal Register by the Paperwork Reduction Act of 1995.

DATES: Please submit comments by February 28, 2008.

ADDRESSES: You may send comments within 30 days to the Office of Information and Regulatory Affairs, Office of Management and Budget, 725 17th Street, NW., Washington DC, 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-0006.

FOR FURTHER INFORMATION CONTACT: Mr. Mark Ferroni, 202-366-3233, Office of Natural and Human Environment (HEPN-20), Federal Highway Administration, Department of Transportation, 1200 New Jersey Avenue, SE., Washington, DC 20590. Office hours are from 6 a.m. to 3:30 p.m., Monday through Friday, except Federal holidays.

SUPPLEMENTARY INFORMATION:

Title: Noise Barriers Inventory Request.

Background: The Federal-aid highway program has always been based on a strong State-Federal partnership. At the core of that partnership is a philosophy of trust and flexibility, and a belief that the States are in the best position to make investment decisions that are based on the needs and priorities of their citizens. The FHWA noise regulations give each State highway agency flexibility in determining the reasonableness and feasibility of noise abatement and, thus, in balancing the benefits of noise abatement against the overall adverse social, economic, and environmental effects and costs of the noise abatement measures. The State highway agencies base their determination on the interest of the overall public good, keeping in mind all the elements of the highway program.

The flexibility in noise abatement decisionmaking is reflected by data indicating that not all States have built noise barriers. Through the end of 2004, 45 State Departments of Transportation (SDOT) and the Commonwealth of Puerto Rico have constructed over 2,205 linear miles of barriers at a cost of over $2.6 billion ($3.4 billion in 2004 dollars). Five States and the District of Columbia have not constructed noise barriers. Ten State highway agencies account for approximately 64 percent of total barrier length and 72 percent of total barrier cost. The previously distributed listing can be found at http://www.fhwa.dot.gov/environment/noise/barrier/summary.htm. This listing continues to be extremely useful in the management of the highway traffic noise program, in our technical assistance efforts for State highway agencies, and in responding to inquiries from congressional sources, Federal, State, and local agencies, and the general public. An updated listing of noise barriers will be distributed nationally for use in the highway traffic noise program. This collection request is for all noise barriers constructed by December 31, 2007. This would include all funding sources and material types. Although the collection concentrates on the 2005, 2006, and 2007 calendar years, a State highway agency may, after review of the “Summary of Noise Barriers Constructed by December 31, 2004” document, delete, modify, or add information to any calendar year.

Respondents: Each of the 50 SDOTs, the District of Columbia, and the Commonwealth of Puerto Rico.

Estimated Average Burden per Response: It is estimated that on average it would take 8 hours to respond to this request. The actual response time will be dependent on the number of noise barriers constructed, the availability of this information, and the collection method. For the SDOT that did not construct noise barriers within the time period, there is no burden.

Estimated Total Annual Burden: It is estimated that the total annual burden is 139 hours annually.

Electronic Access: For access to the docket to read background documents or comments received, go to http://www.regulations.gov. Follow the online instructions for accessing the dockets.

Authority: The Paperwork Reduction Act of 1995; 44 U.S.C. Chapter 35, as amended; and 49 CFR 1.48.

Issued on: January 22, 2008.
James R. Kabel,
Chief, Management Programs and Analysis Division.

[FR Doc. E8-1494 Filed 1-28-08; 8:45 am]

BILLING CODE 4910-22-P